DEPARTMENT OF THE INTERIOR

National Park Service

[NPS-WASO-NAGPRA-NPS0037230; PPWOCRADN0-PCU00RP14.R50000]

Notice of Inventory Completion Amendment: Michigan State Historic Preservation Office, Lansing, MI

AGENCY: National Park Service, Interior.

ACTION: Notice; amendment.

SUMMARY: In accordance with the Native American Graves Protection and Repatriation Act (NAGPRA), the Michigan State Historic Preservation Office (Michigan SHPO) has amended a Notice of Inventory Completion in the Federal Register on October 17, 2022. This notice amends the aboriginal land determination in a collection removed from Wexford County, MI.

DATES: Disposition of the human remains and associated funerary objects in this notice may occur on or after February 12, 2024.

ADDRESSES: Dr. Sarah Surface-Evans, Senior Archaeologist, State Historic Preservation Office, Michigan Economic Development Corporation, 300 N Washington Square, Lansing, MI 48913, telephone (517) 282-7959, email SurfaceEvansS1@michigan.gov.

SUPPLEMENTARY INFORMATION: This notice is published as part of the National Park Service's administrative responsibilities under NAGPRA. The determinations in this notice are the sole responsibility of the Michigan SHPO. The National Park Service is not responsible for the determinations in this notice. Additional information on the amendments and determinations in this notice, including the results of consultation, can be found in the inventory or related records held by the Michigan SHPO.

Amendment

This notice amends the determinations published in a Notice of Inventory Completion in the Federal Register (87 FR 62889-62890, October 17, 2022). Disposition of the items in the original Notice of Inventory Completion has not occurred. Two Tribes consulted were inadvertently omitted from Notice of Inventory Completion as published. They are the Little River Band of Ottawa Indians, Michigan and the Little Traverse Bay Bands of Odawa Indians, Michigan.

Determinations (as Amended)

Pursuant to NAGPRA and its implementing regulations, and after consultation with the appropriate Indian Tribes, the Michigan SHPO has determined that:

• The human remains described in this amended notice represent the physical remains of three individuals of Native American ancestry.

• The one object described in this amended notice are reasonably believed to have been placed with or near individual human remains at the time of death or later as part of the death rite or ceremony.

• No relationship of shared group identity can be reasonably traced between the human remains and associated funerary objects and any Indian Tribe.

• The human remains and associated funerary objects described in this notice were removed from the aboriginal land of the Bad River Band of the Lake Superior Tribe of Chippewa Indians of the Bad River Reservation, Wisconsin; Bay Mills Indian Community, Michigan; Chippewa Cree Indians of the Rocky Boy's Reservation, Montana; Grand Traverse Band of Ottawa and Chippewa Indians, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little River Band of Ottawa Indians, Michigan; Little Shell Tribe of Chippewa Indians of Montana; Little Traverse Bay Bands of Odawa Indians, Michigan; Minnesota Chippewa Tribe, Minnesota (Six component reservations: Bois Forte Band (Nett Lake); Fond du Lac Band; Grand Portage Band; Leech Lake Band; Mille Lacs Band; White Earth Band); Ottawa Tribe of Oklahoma; Red Cliff Band of Lake Superior Chippewa Indians of Wisconsin; Red Lake Band of Chippewa Indians, Minnesota; Saginaw Chippewa Indian Tribe of Michigan; Sault Ste. Marie Tribe of Chippewa Indians, Michigan; Sokaogon Chippewa Community, Wisconsin; St. Croix Chippewa Indians of Wisconsin; and the Turtle Mountain Band of Chippewa Indians of North Dakota.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects in this notice to a requestor may occur on or after February 12, 2024. If competing requests for disposition are received, the Michigan SHPO must determine the most appropriate requestor prior to disposition. Requests for joint disposition of the human remains and associated funerary objects are considered a single request and not competing requests. The Michigan SHPO is responsible for sending a copy of this notice to the Indian Tribes identified in this notice.

Authority: Native American Graves Protection and Repatriation Act, 25 U.S.C. 3003, and the implementing regulations, 43 CFR 10.9, 10.11, and 10.13.

Dated: January 5, 2024.
Melanie O'Brien,
Manager, National NAGPRA Program.

[FR Doc. 2024-00527 Filed 1-11-24; 8:45 am]

BILLING CODE 4312-52-P